DEPARTMENT OF TRANSPORTATION

Federal Motor Carrier Safety Administration

49 CFR Part 393

[Docket No. FMCSA-2025-0122]

RIN 2126-AC96

Parts and Accessories Necessary for Safe Operation; License Plate Lamps

AGENCY: Federal Motor Carrier Safety Administration (FMCSA), Department of Transportation (DOT).

ACTION: Notice of proposed rulemaking (NPRM).

SUMMARY: FMCSA proposes to provide an exception from the lamp and reflective device requirements for license plate lamps on the rear of truck tractors while towing a trailer. This proposed change would remove an unnecessary regulatory requirement without impacting safety.

DATES: Comments must be received on or before July 29, 2025.

ADDRESSES: You may submit comments identified by Docket Number FMCSA-2025-0122 using any of the following methods:

• Federal eRulemaking Portal: Go to https://www.regulations.gov/docket/FMCSA-2025-0122/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Mr. David Sutula, Chief, Vehicle and Roadside Operations Division, FMCSA, 1200 New Jersey Avenue SE, Washington, DC 20590-0001; (202) 366-9209; David.Sutula@dot.gov. If you have questions on viewing or submitting material to the docket, call Dockets Operations at (202) 366-9826.

SUPPLEMENTARY INFORMATION: FMCSA organizes this NPRM as follows:

I. Public Participation and Request for Comments

A. Submitting Comments

B. Viewing Comments and Documents

C. Privacy

II. Abbreviations

III. Legal Basis

IV. Background

V. Discussion of Proposed Rulemaking

VI. International Impacts

VII. Section-by-Section Analysis

VIII. Regulatory Analyses

A. E.O. 12866 (Regulatory Planning and Review), E.O. 13563 (Improving Regulation and Regulatory Review), and DOT Regulatory Policies and Procedures

B. E.O. 14192 (Unleashing Prosperity Through Deregulation)

C. Advance Notice of Proposed Rulemaking

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

L. Rulemaking Summary

I. Public Participation and Request for Comments

A. Submitting Comments

If you submit a comment, please include the docket number for this NPRM (FMCSA-2025-0122), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0122/document, click on this NPRM, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the NPRM contain commercial or financial information that is customarily treated as private, that you actually treat as private, and that is relevant or responsive to the NPRM, it is important that you clearly designate the submitted comments as CBI. Please mark each page of your submission that constitutes CBI as “PROPIN” to indicate it contains proprietary information. FMCSA will treat such marked submissions as confidential under the Freedom of Information Act, and they will not be placed in the public docket of the NPRM. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this rulemaking.

B. Viewing Comments and Documents

To view any documents mentioned as being available in the docket, go to https://www.regulations.gov/docket/FMCSA-2025-0122/document and choose the document to review. To view comments, click this NPRM, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

II. Abbreviations

ANPRM Advance notice of proposed rulemaking

CMV Commercial motor vehicle

DOT Department of Transportation

FR Federal Register

NPRM Notice of proposed rulemaking

PIA Privacy Impact Assessment

PTA Privacy Threshold Assessment

UMRA The Unfunded Mandates Reform Act of 1995

U.S.C. United States Code

III. Legal Basis

Under 49 U.S.C. 31136(a), DOT is required to “prescribe minimum safety standards for commercial motor vehicles. At a minimum, the regulations shall ensure that—(1) commercial motor vehicles are maintained, equipped, loaded, and operated safely; (2) the responsibilities imposed on operators of commercial motor vehicles do not impair their ability to operate the vehicles safely; (3) the physical condition of operators of commercial motor vehicles is adequate to enable them to operate the vehicles safely . . .; (4) the operation of commercial motor vehicles does not have a deleterious effect on the physical condition of the operators; and (5) an operator of a commercial motor vehicle is not coerced by a motor carrier, shipper, receiver, or transportation intermediary to operate a commercial motor vehicle in violation of a regulation promulgated under this section, or chapter 51 or chapter 313 of this title.”

This NPRM is based on the authority of 49 U.S.C. 31136(a)(1) to ensure that commercial motor vehicles (CMVs) are equipped and operated safely. It does not implicate the driver-centered requirements of 49 U.S.C. 31136(a)(2) through (4). Because this NPRM would create an exception to a requirement for vehicle lighting that would otherwise apply to motor carriers, there is no obvious risk of coercion related to this proposed rule to which a driver might be subjected.

Additionally, the Administrator of FMCSA is delegated authority under 49 CFR 1.87 to carry out the functions vested in the Secretary of Transportation by 49 U.S.C. chapters 311, 313, and 315 as they relate to CMV operators, programs, and safety.

For the reasons explained below, FMCSA believes that allowing an additional exception to the requirement for rear license plate lamps in Footnote 11 to Table 1 of 49 CFR 393.11 would not adversely affect CMV safety.

IV. Background

Requirements for CMVs to be equipped with various parts and accessories are established in 49 CFR part 393, “Parts and Accessories Necessary for Safe Operation”. Specifically, § 393.11 contains requirements for lamps and reflective device. Table 1 to § 393.11 specifies the requirements for lamps, reflective devices, and associated equipment by the type of commercial motor vehicle. Currently, Table 1 to § 393.11 specifies that CMVs, except those with projecting loads, must have a rear license plate lamp that is white and illuminates the plate from the top or the sides. Footnote 11 to Table 1 states that these rear license plate lamps must be illuminated when the headlamps are illuminated. Footnote 11 also contains an exception from the rear license plate lamp requirement for vehicles that do not display a rear license plate.

V. Discussion of Proposed Rulemaking

FMCSA proposes to add another exception to footnote 11 for license plate lamps on the rear of truck tractors while towing a trailer. In the July 22, 2016, final rule that added the exception for vehicles that do not display a rear license plate (81 FR 47722), the Agency, in response to comments requesting an explanation of the safety benefits of rear license plate lamps, pointed out that license plate lamps are not intended to enhance safety in a manner similar to the other required lamps and conspicuity treatments, and eliminating the requirement for a rear license plate lamp when no license plate is required would not reduce safety to the motoring public.

Similar to vehicles without rear license plates, truck tractors towing a trailer do not have a visible license plate on the truck tractor itself. The truck tractor license plate would be blocked from view by the trailer, which would have a visible rear license plate when required by law. Table 1 to § 393.11 requires semitrailers and full trailers to have rear license plate lamps. Requiring both the truck tractor and the trailer it is towing to both have operating rear license plate lamps, when only the trailer's license plate is visible, is redundant and unnecessary. Therefore, FMCSA proposes to add an exception to footnote 11 for license plate lamps on the rear of truck tractors while towing a trailer to remove this unnecessary regulatory requirement.

VI. International Impacts

Motor carriers and drivers are subject to the laws and regulations of the countries that they operate in, unless an international agreement states otherwise. Drivers and carriers should be aware of the regulatory differences between nations.

VII. Section-by-Section Analysis

This section-by-section analysis describes the proposed changes in numerical order.

Section 393.11 Lamps and Reflective Devices

FMCSA proposes to revise footnote 11 to Table 1 by adding truck tractors towing a trailer to the exception from the requirement for a rear license plate lamp to be illuminated.

VIII. Regulatory Analyses

A. Executive Order (E.O.) 12866 (Regulatory Planning and Review), E.O. 13563 (Improving Regulation and Regulatory Review), and DOT Regulatory Policies and Procedures

FMCSA has considered the impact of this NPRM under E.O. 12866 (58 FR 51735, Oct. 4, 1993), Regulatory Planning and Review, E.O. 13563 (76 FR 3821, Jan. 21, 2011), Improving Regulation and Regulatory Review, and DOT Regulatory Policies and Procedures. The Office of Information and Regulatory Affairs within the Office of Management and Budget (OMB) determined that this NPRM is not a significant regulatory action under section 3(f) of E.O. 12866, as supplemented by E.O. 13563, and does not require an assessment of potential costs and benefits under section 6(a)(3) of that order. Accordingly, OMB has not reviewed it under that E.O.

This proposed rulemaking would add an exception to for license plate lamps on the rear of truck tractors while towing a trailer. Consequently, truck tractor owners would realize cost savings by no longer needing to retrofit their rear license plates with lamps when towing a trailer. FMCSA does not have information to estimate the cost savings for the owners of trucks who would no longer install license plate lamps on the rear of their truck tractors while towing a vehicle. FMCSA believes the cost savings and the number of affected entities would be minimal as some of these truck tractors would likely operate without a trailer in some instances, meaning that the owners would opt to have the lamps installed. FMCSA requests comment and data on the cost to install rear license plate lamps and the number of affected entities.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ¹

¹ Executive Office of the President. Executive Order 14192 of January 31, 2025. Unleashing Prosperity Through Deregulation. 90 FR 9065-9067. Feb. 6, 2025.

Implementation guidance for E.O. 14192 issued by the OMB (Memorandum M-25-20, March 26, 2025) defines two different types of E.O. 14192 actions: an E.O. 14192 deregulatory action, and an E.O. 14192 regulatory action.²

² Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero, and therefore would be considered an E.O. 14192 deregulatory action upon issuance of a final rule.

C. Advance Notice of Proposed Rulemaking

Under 49 U.S.C. 31136(g), FMCSA is required to publish an advance notice of proposed rulemaking (ANPRM) or proceed with a negotiated rulemaking, if a proposed safety rule “under this part” ³ is likely to lead to the promulgation of a major rule.⁴ As this proposed rule is not likely to result in the promulgation of a major rule, the Agency is not required to issue an ANPRM or to proceed with a negotiated rulemaking.

³ Part B of Subtitle VI of Title 49, United States Code, i.e., 49 U.S.C. chapters 311-317.

⁴ A major rule means any rule that the Office of Management and Budget finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁵ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁵ Public Law 104-121, 110 Stat. 857 (Mar. 29, 1996).

No regulatory flexibility analysis is required, however, if the head of an agency or an appropriate designee certifies that the proposed rule will not have a significant economic impact on a substantial number of small entities. This proposed rulemaking would add an exception for license plate lamps on the rear of truck tractors while towing a trailer. This would result in minimal cost savings for owners of trucks who would have otherwise retrofitted their truck tractors with rear license plate lamp when towing a trailer. As some truck tractors would be operated with and without a trailer in certain instances, FMCSA believes the number of affected entities would be minimal as the owners of these trucks would likely continue to maintain and install rear license plate lamps. FMCSA requests comment and data to develop estimates of cost savings for affected truck tractor owners.

Consequently, I certify that the proposed action would not have a significant economic impact on a substantial number of small entities.

E. Assistance for Small Entities

In accordance with section 213(a) of the Small Business Regulatory Enforcement Fairness Act of 1996 (Pub. L. 104-121, 110 Stat. 857), FMCSA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this proposed rule would not result in such an expenditure, a written statement is not required.

G. Paperwork Reduction Act

This proposed rule contains no new information collection requirements under the Paperwork Reduction Act of 1995 (44 U.S.C. 3501-3520).

H. E.O. 13132 (Federalism)

A proposed rule has implications for federalism under section 1(a) of E.O. 13132 if it has “substantial direct effects on the States, on the relationship between the national government and the States, or on the distribution of power and responsibilities among the various levels of government.”

FMCSA has determined that this rulemaking would not have substantial direct costs on or for States, nor would it limit the policymaking discretion of States. Nothing in this document preempts any State law or regulation. Therefore, this rulemaking does not have sufficient federalism implications to warrant the preparation of a Federalism Impact Statement.

I. Privacy

The Consolidated Appropriations Act, 2005,⁶ requires the Agency to assess the privacy impact of a regulation that will affect the privacy of individuals. This NPRM would not require the collection of personally identifiable information.

⁶ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁷ requires Federal agencies to conduct a Privacy Impact Assessment (PIA) for new or substantially changed technology that collects, maintains, or disseminates information in an identifiable form. No new or substantially changed technology would collect, maintain, or disseminate information as a result of this proposed rule. Accordingly, FMCSA has not conducted a PIA.

⁷ Public Law 107-347, sec. 208, 116 Stat. 2899, 2921 (Dec. 17, 2002).

In addition, the Agency will complete a Privacy Threshold Assessment (PTA) to evaluate the risks and effects the proposed rulemaking might have on collecting, storing, and sharing personally identifiable information. The PTA will be submitted to FMCSA's Privacy Officer for review and preliminary adjudication and to DOT's Privacy Officer for review and final adjudication.

J. E.O. 13175 (Indian Tribal Governments)

This rulemaking does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this proposed rule pursuant to the National Environmental Policy Act of 1969 (42 U.S.C. 4321 et seq.). The Agency believes this proposed rule, if finalized, would not have a reasonably foreseeable significant effect on the quality of the human environment. This action would likely fall under a published categorical exclusion and thus be excluded from further analysis and documentation in an environmental assessment or environmental impact statement under FMCSA Order 5610.1 (69 FR 9680), Appendix 2. Specifically, paragraph (6) (bb), which covers regulations pertaining to vehicle operation safety standards, equipment approval, and/or equipment carriage requirements. The public is invited to comment on the impact of the proposed Agency action.

L. Rulemaking Summary

In accordance with 5 U.S.C. 553(b)(4), a summary of this proposed rule may be found at regulations.gov, under the docket number.

List of Subjects in 49 CFR Part 393

Highway safety, Motor carriers, Motor vehicle safety.

Accordingly, FMCSA proposes to amend 49 CFR part 393 to read as follows:

PART 393—PARTS AND ACCESSORIES NECESSARY FOR SAFE OPERATION

1. The authority citation for part 393 continues to read as follows:

Authority: 49 U.S.C. 31136, 31151, 31502; sec. 1041(b), Public Law 102-240, 105 Stat. 1914, 1993; secs. 5301 and 5524, Public Law 114-94, 129 Stat. 1312, 1543, 1560; and 49 CFR 1.87.

2. Amend § 393.11 by revising footnote 11 in table 1 to read as follows:

§ 393.11 Lamps and reflective devices.

* * * * *

Table 1 of § 393.11—Required Lamps and Reflectors on Commercial Motor Vehicles
Item on the vehicle | Quantity | Color | Location | Position | Height above the road surface in millimeters (mm) (with English units in parenthesis) measured from the center of the lamp at curb weight | Vehicles for which the devices are required
* * * * * * *
Tail lamps. See footnotes #5 and 11 | 2 | Red | Rear | One lamp on each side of the vertical centerline at the same height and as far apart as practicable | Both on the same level between 381 mm (15 inches) and 1,829 mm (72 inches) | A, B, C, D, E, F, G, H
* * * * * * *
License plate lamp (rear). See footnote #11 | 1 | White | At rear license plate to illuminate the plate from the top or sides |  | No requirements | A, B, C, D, F, G
* * * * * * *

* * * * *

Footnote—5 Each converter dolly, when towed singly by another vehicle and not as part of a full trailer, shall be equipped with one stop lamp, one tail lamp, and two reflectors (one on each side of the vertical centerline, as far apart as practicable) on the rear. Each converter dolly shall be equipped with rear turn signals and vehicular hazard warning signal flasher lamps when towed singly by another vehicle and not as part of a full trailer, if the converter dolly obscures the turn signals at the rear of the towing vehicle.

* * * * *

Footnote—11 To be illuminated when headlamps are illuminated. No rear license plate lamp is required on vehicles that do not display a rear license plate or on the rear of truck tractors while towing a trailer.

* * * * *

Issued under authority delegated in 49 CFR 1.87.
Sue Lawless,
Assistant Administrator.

[FR Doc. 2025-09733 Filed 5-27-25; 4:15 pm]

BILLING CODE 4910-EX-P